DEPARTMENT OF COMMERCE

International Trade Administration

[A-201-842]

Large Residential Washers From Mexico: Continuation of the Antidumping Duty Order

AGENCY: Enforcement and Compliance, International Trade Administration, Department of Commerce.

SUMMARY: As a result of the determinations by the U.S. Department of Commerce (Commerce) and the U.S. International Trade Commission (ITC) that revocation of the antidumping duty (AD) order on large residential washers (LRW) from Mexico would likely lead to the continuation or recurrence of dumping and material injury to an industry in the United States, Commerce is publishing a notice of continuation of this AD order.

DATES: Applicable October 9, 2024.

FOR FURTHER INFORMATION CONTACT: Mira Warrier, AD/CVD Operations, Office II, Enforcement and Compliance, International Trade Administration, U.S. Department of Commerce, 1401 Constitution Avenue NW, Washington, DC 20230; telephone: (202) 482-8031.

SUPPLEMENTARY INFORMATION:

Background

On February 15, 2013, Commerce published in the Federal Register the AD order on large residential washers from Mexico.¹ On April 1, 2024, the ITC instituted,² and Commerce initiated,³ the second sunset review of the Order, pursuant to section 751(c) of the Tariff Act of 1930, as amended (the Act). As a result of its review, Commerce determined that revocation of the Order would likely lead to the continuation or recurrence of dumping, and therefore, notified the ITC of the magnitude of the margins of dumping likely to prevail should the Order be revoked.⁴

¹ See Large Residential Washers from Mexico and the Republic of Korea: Antidumping Duty Orders, 78 FR 11148 (February 15, 2013) (Order).

² See Large Residential Washers from Mexico; Institution of a Five-Year (Sunset) Review, 89 FR 22455 (April 1, 2024).

³ See Initiation of Five-Year (Sunset) Reviews, 89 FR 22373 (April 1, 2024) (Initiation Notice).

⁴ See Large Residential Washers from Mexico: Final Results of the Expedited Second Sunset Review of the Antidumping Duty Order, 89 FR 59892 (July 24, 2024).

On October 9, 2024, the ITC published its determination, pursuant to sections 751(c) and 752(a) of the Act, that revocation of the Order would likely lead to continuation or recurrence of material injury to an industry in the United States within a reasonably foreseeable time.⁵

⁵ See Large Residential Washers from Mexico, 89 FR 81940 (October 9, 2024) (ITC Final Determination).

Scope of the Order

The products covered by the Order are all large residential washers and certain subassemblies thereof from Mexico. For purposes of the order, the term “large residential washers” denotes all automatic clothes washing machines, regardless of the orientation of the rotational axis, except as noted below, with a cabinet width (measured from its widest point) of at least 24.5 inches (62.23 cm) and no more than 32.0 inches (81.28 cm). Also covered are certain subassemblies used in large residential washers, namely: (1) all assembled cabinets designed for use in large residential washers which incorporate, at a minimum: (a) At least three of the six cabinet surfaces; and (b) a bracket; (2) all assembled tubs ⁶ designed for use in large residential washers which incorporate, at a minimum: (a) a tub; and (b) a seal; (3) all assembled baskets ⁷ designed for use in large residential washers which incorporate, at a minimum: (a) a side wrapper; ⁸ (b) a base; and (c) a drive hub; ⁹ and (4) any combination of the foregoing subassemblies.

⁶ A “tub” is the part of the washer designed to hold water.

⁷ A “basket” (sometimes referred to as a “drum”) is the part of the washer designed to hold clothing or other fabrics.

⁸ A “side wrapper” is the cylindrical part of the basket that actually holds the clothing or other fabrics.

⁹ A “drive hub” is the hub at the center of the base that bears the load from the motor.

The products are currently classifiable under subheadings 8450.20.0040 and 8450.20.0080 of the Harmonized Tariff Schedule of the United States (HTSUS).¹⁰ Products subject to this Order may also enter under HTSUS subheadings 8450.11.0040, 8450.11.0080, 8450.90.2000, and 8450.90.6000. Although the HTSUS subheadings are provided for convenience and customs purposes, the written description of the merchandise subject to this scope is dispositive.¹¹

¹⁰ Large Residential Washers from the Republic of Korea: Final Results of the Expedited First Five-Year Sunset Review of the Antidumping Duty Order, 83 FR 21764 (May 10, 2018).

¹¹ For a complete description of the Scope of the Order, see Memorandum “Issues and Decision Memorandum for the Final Results of First Sunset Review of the Antidumping Duty Order on Large Residential Washers from Mexico,” dated concurrently with this notice (Issues and Decision Memorandum).

Continuation of the Order

As a result of the determinations by Commerce and the ITC that revocation of the Order would likely lead to continuation or recurrence of dumping and material injury to an industry in the United States, pursuant to section 751(d)(2) of the Act, Commerce hereby orders the continuation of the Order. U.S. Customs and Border Protection will continue to collect AD cash deposits at the rates in effect at the time of entry for all imports of subject merchandise.

The effective date of the continuation of the Order will be October 9, 2024.¹² Pursuant to section 751(c)(2) of the Act and 19 CFR 351.218(c)(2), Commerce intends to initiate the next five-year review of the Order not later than 30 days prior to fifth anniversary of the date of the last determination by the ITC.

¹² See ITC Final Determination.

Administrative Protective Order (APO)

This notice also serves as a final reminder to interested parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This five-year (sunset) review and this notice are in accordance with sections 751(c) and 751(d)(2) of the Act and published in accordance with section 777(i) of the Act, and 19 CFR 351.218(f)(4).

Dated: October 10, 2024.
Scot Fullerton,
Acting Assistant Secretary for Enforcement and Compliance.

[FR Doc. 2024-23916 Filed 10-16-24; 8:45 am]

BILLING CODE 3510-DS-P